NUCLEAR REGULATORY COMMISSION

[Docket No. 50-382; NRC-2016-0078]

Entergy Operations, Inc.; Waterford Steam Electric Station, Unit 3

AGENCY: Nuclear Regulatory Commission.

ACTION: License renewal application; receipt.

SUMMARY: The U.S. Nuclear Regulatory Commission (NRC) has received an application for the renewal of operating license NPF-38, which authorizes Entergy Operations, Inc. (the applicant) to operate the Waterford Steam Electric Station, Unit 3 (Waterford 3). The renewed license would authorize the applicant to operate Waterford 3 for an additional 20-year period beyond the period specified in the current license. The current operating license for Waterford 3 expires at midnight on December 18, 2024.

DATES: The license renewal application referenced in this document is available on April 14, 2016.

ADDRESSES: Please refer to Docket ID NRC-2016-0078 when contacting the NRC about the availability of information regarding this document. You may obtain publicly-available information related to this document using any of the following methods:

• Federal Rulemaking Web site: Go to http://www.regulations.gov and search for Docket ID NRC-2016-0078. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The license renewal application is available in ADAMS under Accession No. ML16088A324.

• NRC's PDR: You may examine and purchase copies of public documents at the NRC's PDR, Room O1-F21, One White Flint North, 11555 Rockville Pike, Rockville, Maryland 20852.

FOR FURTHER INFORMATION CONTACT: Phyllis Clark, Office of Nuclear Reactor Regulation, U.S. Nuclear Regulatory Commission, Washington DC 20555-0001; telephone: 301-415-6447; email: Phyllis.Clark@nrc.gov.

SUPPLEMENTARY INFORMATION:

The NRC has received an application from Entergy Operations, Inc., dated March 23, 2016, filed pursuant to Section 103 of the Atomic Energy Act of 1954, as amended, and part 54 of title 10 of the Code of Federal Regulations, to renew the operating license for Waterford 3. Renewal of the license would authorize the applicant to operate the facility for an additional 20-year period beyond the period specified in the current operating license. The current operating license for Waterford 3 expires at midnight on December 18, 2024. Waterford 3 is a pressurized-water reactor designed by Combustion Engineering and is located in Killona, Louisiana. The acceptability of the tendered application for docketing, and other matters, including an opportunity to request a hearing, will be the subject of subsequent Federal Register notices.

A copy of the license renewal application for Waterford 3 is also available to local residents near the site at the St. Charles Parish Library—East Regional Library, 160 W. Campus Drive, Destrehan, Louisiana 70047.

Dated at Rockville, Maryland, this 7th day of April, 2016.
For the Nuclear Regulatory Commission.
Jane E. Marshall,
Acting Director, Division of License Renewal, Office of Nuclear Reactor Regulation.

[FR Doc. 2016-08660 Filed 4-13-16; 8:45 am]

BILLING CODE 7590-01-P